DEPARTMENT OF ENERGY

Federal Energy Regulatory Commission

PB Energy, Inc.; Soliciting Notices of Intent To File a License Application and Pre-Application Documents

The current license for PB Energy, Inc.'s (PB Energy) Dry Spruce Bay Project No. 1432 was issued on June 11, 1990, for a term of 30 years, ending June 1, 2020.¹ The 75-kilowatt (kW) project is located on an unnamed creek near Port Bailey in the Kodiak Island Borough of Alaska. The project occupies 44 acres of land administered by the Bureau of Land Management.

¹ Wards Cove Packing Co., 51 FERC ¶ 62,228 (1990). The license was transferred to PB Energy in 2010. Port Bailey Wild Enterprises, LLC PB Energy, Inc., 133 FERC ¶ 62,214 (2010).

The principal project works consist of: (1) A 920-foot-long, 50-foot-wide ditch diverting water from an unnamed stream to an upper pond; (2) a 12.59-acre upper pond created by a 200-foot-long, 50-foot-wide, 5-foot-high earthen dam with a spillway and a 200-footlong overflow ditch; (3) a short metal flume and a 275-foot-long, 12-inch-diameter wood stave pipe conveying water from the upper pond to the lower pond; (4) a 1000-foot-long, 50-foot-wide ditch diverting water from an unnamed stream to the lower pond; (5) a 2.2-acre lower pond created by a 200-foot-long, 50-foot-wide, 5-foot-high earthen dam; (6) a 6,772- foot-long PVC and steel penstock conveying water from the lower pond to the powerhouse; (7) a steel powerhouse with a 75-kilowatt Pelton turbine; (8) a short transmission line; and (9) appurtenant facilities.

At least 24 months before the expiration of a license for a minor water power project in which sections 14 and 15 of the Federal Power Act were waived, the Commission's regulations require the licensee to file with the Commission an application for a subsequent license.² Accordingly, the licensee was required to file a subsequent license application by June 1, 2018. On May 30, 2018, PB Energy filed an application for a subsequent license for the Dry Spruce Bay Project. However, on May, 1, 2019, Commission staff rejected PB Energy's license application for failing to cure deficiencies and respond to additional information requests.

² 18 CFR 16.20(c) (2018).

If the Commission rejects or dismisses a subsequent license application, the licensee may not refile the application after the deadline to file (i.e., June 1, 2018).³ Because the only timely-filed license application has been dismissed, the Commission is soliciting applications from other potential applicants for the project.

³ 18 CFR 16.9(b)(4) (2018.)

Any party interested in filing a license application for the Dry Spruce Bay Project No. 1432 must first file a notice of intent (NOI) ⁴ and pre-application document (PAD) ⁵ pursuant to Part 5 of the Commission's regulations. Although the integrated licensing process (ILP) is the default pre-filing process, section 5.3(b) of the Commission's regulations allows a potential license applicant to request to use the traditional licensing process or alternative procedures when it files its NOI.⁶

⁴ 18 CFR 5.5 (2018).

⁵ 18 CFR 5.6 (2018).

⁶ 18 CFR 5.3(b) (2018).

This notice sets a deadline of 120 days from the date of this notice for interested applicants, other than the existing licensee, to file NOIs, PADs, and requests to use the traditional licensing process or alternative procedures. A potential applicant that timely files an NOI and PAD must file an application for a subsequent license no later than 18 months after the date on which it filed its NOI.⁷

⁷ 18 CFR 16.25(b)(1) (2018).

Questions concerning this notice should be directed to Ryan Hansen at (202) 502-8074 or ryan.hansen@ferc.gov.

Dated: May 3, 2019.
Kimberly D. Bose,
Secretary.

[FR Doc. 2019-09977 Filed 5-14-19; 8:45 am]

BILLING CODE 6717-01-P